DEPARTMENT OF LABOR

Employment and Training Administration

[TA-W-41,201]

Mansfield Plumbing Products, LLC Kilgore, TX; Notice of Termination of Investigation

Pursuant to section 221 of the Trade Act of 1974, an investigation was initiated on April 1, 2002, in response to a petition filed by the company on behalf of workers at Mansfield Plumbing Products, LLC, Kilgore, Texas.

The petition has been deemed invalid. One of the three petitioning group of workers was separated from the subject firm more than one year prior to the date of the petition. Consequently, further investigation in this case would serve no purpose, and the investigation has been terminated.

Signed in Washington, DC, this 13th day of May 2002.
Linda G. Poole,
Certifying Officer, Division, Of Trade Adjustment Assistance.

[FR Doc. 02-15446 Filed 6-18-02; 8:45 am]

BILLING CODE 4510-30-P